DEPARTMENT OF AGRICULTURE

Commodity Credit Corporation

7 CFR Parts 1405, 1424, 1429

RIN 0566-AA00

Removal of Obsolete Regulations

AGENCY: Commodity Credit Corporation (CCC), Department of Agriculture.

ACTION: Final rule.

SUMMARY: CCC is in the process of reviewing all regulations within its purview to reduce regulatory burdens and costs. Pursuant to this review, CCC has identified the following obsolete, unnecessary, and outdated provisions in title 7 of the Code of Federal Regulation (CFR). CCC is removing these provisions to streamline and clarify the dictates of title 7.

DATES: Effective Date: This rule is effective July 15, 2025.

FOR FURTHER INFORMATION CONTACT: Sherrie Grimm; telephone: (202) 401-0062; email: Sherrie.Grimm@usda.gov. Individuals with disabilities who require alternative means for communication should contact the USDA Target Center at (202) 720-2600 (voice and text telephone (TTY mode)) or dial 711 for Telecommunications Relay Service (both voice and text telephone users can initiate this call from any telephone).

SUPPLEMENTARY INFORMATION:

Background

The President's Executive Order 14219 of February 19, 2025, Ensuring Lawful Governance and Implementing the President's “Department of Government Efficiency” Deregulatory Initiative, 90 FR 10583, and subsequent implementing memorandum directed all agency heads to review regulations within their purview and rescind those that are, among other things, unlawful or unnecessary. CCC has undertaken such a review and is accordingly rescinding the following provisions from title 7.

Regulatory Certifications

Executive Orders

This document does not meet the criteria for a significant regulatory action as specified by Executive Order (E.O.) 12866. This action also has no federalism or tribal implications and will not impose substantial unreimbursed compliance costs on States, local governments, or Indian tribal governments. Therefore, impact statements are not required under E.O. 13132 or 13175.

Environmental Evaluation

This rule will have no significant effect on the human environment; therefore, neither an environmental assessment nor impact statement is required.

Paperwork Reduction Act

This rule does not contain reporting or recordkeeping requirements subject to the Paperwork Reduction Act.

Explanation of Provisions

The regulations removed are:

Loans, Purchases, and Other Operations (7 CFR Part 1405)

The regulations at 7 CFR 1405.3 were in effect as of April 4, 1996, and only continued to apply to the 1991 through 1995 crops of agricultural commodities, to milk produced on or before May 1, 1996, and to contracts entered prior to any amendments to this chapter after that date. Therefore, these regulations are obsolete and removed pursuant to the preamble.

Bioenergy Program (7 CFR Part 1424)

The program established at 7 CFR part 1424 was effective only from 2002 through 2006. Therefore, these regulations are obsolete and removed pursuant to the preamble.

Asparagus Revenue Market Loss Assistance Payment Program (7 CFR Part 1429)

The regulations at 7 CFR part 1429 were applicable to program applicants who produced both 2003- and 2007-crop asparagus. There was a limit on funding availability, which has been reached. As such, they are obsolete and therefore removed pursuant to the preamble.

List of Subjects

7 CFR Part 1405

Loan programs—agriculture, Price support programs.

7 CFR Part 1424

Administrative practice and procedure, Energy, Fuel additives, Gasohol, Oils and fats, Oilseeds, Reporting and recordkeeping requirements.

7 CFR Part 1429

Asparagus, Reporting and recordkeeping requirements.

For the reasons stated in the preamble, CCC amends 7 CFR parts 1405, 1424, and 1425 as follows:

PART 1405—LOANS, PURCHASES, AND OTHER OPERATIONS

1. The authority citation for part 1405 continues to read as follows:

Authority: 7 U.S.C. 1515; 7 U.S.C. 7416a; 7 U.S.C. 7991(e); 15 U.S.C. 714b and 714c.

§ 1405.3 [Removed and Reserved]

2. Remove and reserve § 1405.3.

PART 1424—[Removed and Reserved]

3. Remove and reserve part 1424.

PART 1429—[Removed and Reserved]

4. Remove and reserve part 1429.

William Beam,
Administrator, Farm Service Agency.

[FR Doc. 2025-13222 Filed 7-14-25; 8:45 am]

BILLING CODE 3411-E2-P